POSTAL SERVICE

Changes in Domestic Mail Classifications

AGENCY: Postal Service.

ACTION: Notice of implementation of changes to the Domestic Mail Classification Schedule.

SUMMARY: This notice sets forth the changes to the Domestic Mail Classification Schedule to be implemented as a result of the Decision of the Governors of the United States Postal Service on the Recommended Decision of the Postal Rate Commission Approving Stipulation and Agreement for Customized Market Mail Minor Classification Changes, Docket No. MC2003-1.

EFFECTIVE DATE: August 10, 2003.

FOR FURTHER INFORMATION CONTACT: Daniel J. Foucheaux, Jr., (202) 268-2989.

SUPPLEMENTARY INFORMATION: On March 14, 2003, the United States Postal Service, in conformance with section 3623 of the Postal Reorganization Act (39 U.S.C. 101 et seq.), filed a request for a recommended decision by the Postal Rate Commission (PRC) on the establishment of Customized Market Mail as a minor classification change. The PRC designated this filing as Docket No. MC2003-1. On June 6, 2003, pursuant to 39 U.S.C. 3624, the PRC issued to the Governors of the Postal Service its Opinion and Recommended Decision Approving Stipulation and Agreement on Customized Market Mail Minor Classification Changes, Docket No. MC2003-1. The PRC recommended that the Postal Service proposal for Customized Market Mail be established as a permanent classification.

Pursuant to 39 U.S.C. 3625, the Governors of the United States Postal Service acted on the PRC's recommendations on June 27, 2003. In the Decision of the Governors of the United States Postal Service on the Recommended Decision of the Postal Rate Commission Approving Stipulation and Agreement for Customized Market Mail Minor Classification Changes, Docket No. MC2003-1, the Governors of the Postal Service approved the recommended decision. In accordance with Resolution 03-9, the Board of Governors established an implementation date of August 10, 2003 on which the approved classifications for Customized Market Mail take effect. The attachments to the Governors' Decision, setting forth the classification changes ordered into effect by the Governors, are set forth below.

In accordance with the Decision of the Governors and Resolution No. 03-9 of the Board of Governors, the Postal Service hereby gives notice that the classification changes set forth below will become effective at 12:01 a.m. on August 10, 2003.

Attachment A to the Decision of the Governors of the United States Postal Service on the Recommended Decision of the Postal Rate Commission Approving Stipulation and Agreement for Customized Market Mail Minor Classification Changes, Docket No. MC2003-1 (Additions Underlined; Deletions in Brackets)

Standard Mail Rate Schedule 321A; Regular Presorted Categories
| Rate
Letter, minimum piece rate:
Piece Rate
Basic | $0.268
3/5-digit | 0.248
Destination Entry Discounts
BMC | 0.021
SCF | 0.026
Nonletters, minimum piece rate:
Piece Rate
Basic | 0.344
3/5-digit | 0.288
Destination Entry Discounts
BMC | 0.021
SCF | 0.026
Nonletters, piece and pound rate:
Piece Rate
Basic | 0.198
3/5-digit | 0.142
Pound Rate | 0.708
Destination Entry Discounts (off pound rate)
BMC | 0.100
SCF | 0.125
Schedule 321A Notes:
1. A fee of $150.00 must be paid each 12-month period for each bulk mailing permit.
2. Residual shape pieces are subject to a surcharge of $0.23 per-piece. For parcel barcode discount, deduct $0.03 per-piece (machinable parcels only).
3. For nonletters, the mailer pays either the minimum piece rate or the pound rate, whichever is higher.
4. Nonmachinable letters are subject to a $0.04 nonmachinable surcharge.
5. Pieces entered as Customized Market Mail, as defined in DMCS section 321.22, are subject to the nondestination entry, nonletter minimum per-piece basic rate and the residual shape surcharge.

Standard Mail Rate Schedule 323A; Nonprofit Presorted Categories
| Rate
Letters, minimum piece rate:
Piece Rate
Basic | $0.165
3/5-digit | 0.153
Destination Entry Discounts
BMC | 0.021
SCF | 0.026
Nonletters, minimum piece rate:
Piece Rate
Basic | 0.230
3/5-digit | 0.183
Destination Entry Discounts
BMC | 0.021
SCF | 0.026
Nonletters, piece and pound rate:
Piece Rate
Basic | 0.110
3/5-digit | 0.063
Pound Rate | 0.584
Destination Entry Discounts (off pound rate)
BMC | 0.100
SCF | 0.125
Schedule 323A Notes:
¹ A fee of $150.00 must be paid each 12-month period for each bulk mailing permit.
² Residual shape pieces are subject to a surcharge of $0.23 per-piece. For parcel barcode discount, deduct $0.03 per-piece (nonmachinable parcels only).
³ For nonletters, the mailer pays either the minimum piece rate or the pound rate, whichever is higher.
⁴ Nonmachinable letters are subject to a $0.02 nonmachinable surcharge.
⁵ Pieces entered as Customized Market Mail, as defined in DMCS sections 321.22 and 323.22, are subject to the nondestination entry, nonletter minimum per-piece basic rate and the residual shape surcharge.

Attachment B to the Decision of the Governors of the United States Postal Service on the Recommended Decision of the Postal Rate Commission Approving Stipulation and Agreement for Customized Market Mail Minor Classification Changes, Docket No. MC2003-1 (Additions Underlined; Deletions in Brackets)

First-Class Mail Classification Schedule

210 DEFINITION

Any matter eligible for mailing, except Regular and Nonprofit Presort category mail entered as Customized Market Mail under sections 321.22 and 323.22, may, at the option of the mailer, be mailed as First-Class Mail. The following must be mailed as First-Class Mail, unless mailed as Express Mail or exempt under title 39, United States Code, or except as authorized under sections 344.12, 344.23 and 443:

a. Mail sealed against postal inspection as set forth in section 5000;

b. Matter wholly or partially in handwriting or typewriting except as specifically permitted by sections 312, 313, 520, 544.2, and 446;

c. Matter having the character of actual and personal correspondence except as specifically permitted by sections 312, 313, 520, 544.2, and 446; and

d. Bills and statements of account.

* * * * *

Standard Mail Classification Schedule

* * * * *

320 DESCRIPTION OF SUBCLASSES

321 Regular Subclass

* * * * *

321.2 Presort Rate Categories

* * * * *

321.22 Basic Rate Categories.

The basic rate categories apply to presort rate category mail not mailed under section 321.23, and to all mail entered as Customized Market Mail (CMM). CMM must be marked and bear endorsements as specified by the Postal Service, and must meet the preparation, addressing, and acceptance requirements specified by the Postal Service. Notwithstanding section 6020, Customized Market Mail may be nonrectangular in shape. The following size standards apply to Customized Market Mail:

a. Thickness: at least 0.007 inch and no more than 0.75 inch.

b. Length: at least 5 inches and no more than 15 inches, measured for nonrectangular shapes as specified by the Postal Service.

c. Height: at least 3.5 inches and no more than 12 inches, measured for nonrectangular shapes as specified by the Postal Service.

* * * * *

321.4 Destination Entry Discounts

The destination entry discounts apply to Regular subclass mail, except Regular Presort category mail entered as Customized Market Mail under section 321.22, prepared as specified by the Postal Service and addressed for delivery within the service area of the BMC (or auxiliary service facility), or sectional center facility (SCF), at which it is entered, as defined by the Postal Service.

321.5 Residual Shape Surcharge

Regular subclass mail is subject to a surcharge if it is entered as Customized Market Mail under section 321.22 or is prepared as a parcel or if it is not letter or flat shaped.

321.6 Barcode Discount

The barcode discount applies to Regular Subclass mail, except Regular Presort category mail entered as Customized Market Mail under section 321.22, that is subject to the residual shape surcharge in 321.5, is entered at designated facilities, bears a barcode specified by the Postal Service, is prepared as specified by the Postal Service, and meets all other preparation and machinability requirements of the Postal Service.

321.7 Nonmachinable Surcharge

The nonmachinable surcharge applies to Regular presort category letter-sized pieces, except Regular Presort category mail entered as Customized Market Mail under section 321.22, (i) that do not meet the machinability requirements specified by the Postal Service; or (ii) for which manual processing is requested.

* * * * *

323 Nonprofit Subclass

* * * * *

323.2 Presort Rate Categories

* * * * *

323.22 Basic Rate Categories.

The basic rate categories apply to presort rate category mail not mailed under section 322.23, and to all mail entered as Customized Market Mail, as defined in section 321.22.

* * * * *

323.4 Destination Entry Discounts

Destination entry discounts apply to Nonprofit subclass mail, except Nonprofit Presort category mail entered as Customized Market Mail under section 323.22, prepared as specified by the Postal Service and addressed for delivery within the service area of the BMC (or auxiliary service facility) or sectional center facility (SCF) at which it is entered, as defined by the Postal Service.

323.5 Residual Shape Surcharge

Nonprofit subclass mail is subject to a surcharge if it is entered as Customized Market Mail under section 323.22 or is prepared as a parcel or if it is not letter or flat shaped.

323.6 Barcode Discount

The barcode discount applies to Nonprofit subclass mail, except Nonprofit Presort category mail entered as Customized Market Mail under section 323.22, that is subject to the residual shape surcharge in 323.5, is entered at designated facilities, bears a barcode specified by the Postal Service, is prepared as specified by the Postal Service and meets all other preparation and machinability requirements of the Postal Service.

323.7 Nonmachinable Surcharge

The nonmachinable surcharge applies to Nonprofit presort category letter-sized pieces, except Nonprofit Presort category mail entered as Customized Market Mail under section 323.22, (i) that do not meet the machinability requirements specified by the Postal Service; or (ii) for which manual processing is requested.

* * * * *

330 PHYSICAL LIMITATIONS

* * * * *

340 POSTAGE AND PREPARATION

* * * * *

344 Attachments and Enclosures

344.1 General

First-Class Mail may be attached to or enclosed in Standard Mail, except Regular and Nonprofit Presort category mail entered as Customized Market Mail under sections 321.22 and 323.22. The piece must be marked as specified by the Postal Service. Except as provided in section 344.2, additional postage must be paid for the attachment or enclosure as if it had been mailed separately. Otherwise, the entire combined piece is subject to the First-Class rate for which it qualifies.

* * * * *

350 DEPOSIT AND DELIVERY

* * * * *

353 Forwarding and Return

Undeliverable-as-addressed Standard Mail, except Regular and Nonprofit Presort category mail entered as Customized Market Mail under sections 321.22 and 323.22, will be returned on request of the mailer, or forwarded and returned on request of the mailer. Undeliverable-as-addressed combined First-Class and Standard Mail pieces will be returned as specified by the Postal Service. Except as provided in section 935, the applicable First-Class Mail rate is charged for each piece receiving return only service. Except as provided in section 936, charges for forwarding-and-return service are assessed only on those pieces which cannot be forwarded and are returned. Except as provided in sections 935 and 936, the charge for those returned pieces is the appropriate First-Class Mail rate for the piece plus that rate multiplied by a factor equal to the number of Standard Mail pieces nationwide that are successfully forwarded for every one piece that cannot be forwarded and must be returned.

360 ANCILLARY SERVICES

361 All Subclasses

All Standard Mail, except Regular and Nonprofit Presort category mail entered as Customized Market Mail under sections 321.22 and 323.22, will receive the following services upon payment of the appropriate fees:

Service | Schedule
a. Address correction | 911
b. Certificates of mailing indicating that a specified number of pieces have been mailed | 947

Certificates of mailing are not available for Standard Mail when postage is paid with permit imprint.

362 Regular and Nonprofit

362.1 Regular and Nonprofit subclass mail, except Regular and Nonprofit Presort category mail entered as Customized Market Mail under sections 321.22 and 323.22, will receive the following additional services upon payment of the appropriate fees.

Service | Schedule
a. Bulk Parcel Return Service | 935
b. Shipper-Paid Forwarding | 936

362.2 Regular and Nonprofit subclass mail subject to the residual shape surcharge in 321.5 and 323.6, respectively, except Regular and Nonprofit Presort category mail entered as Customized Market Mail under sections 321.22 and 323.22, will receive the following additional services upon payment of the appropriate fees.

Service | Schedule
a. Bulk Insurance | 943
b. Return Receipt (merchandise only) | 945
c. Delivery Confirmation | 948

Bulk insurance may not be used selectively for individual pieces in a multi-piece Standard Mail mailing unless specific methods approved by the Postal Service for determining and verifying postage are followed.

363 Regular

Regular subclass mail, except Regular Presort category mail entered as Customized Market Mail under sections 321.22, will receive the following additional services upon payment of the appropriate fees:

Service | Schedule
a. Netpost Mailing Online | 981

365 Nonprofit

Nonprofit subclass mail, except Nonprofit Presort category mail entered as Customized Market Mail under sections 323.22, will receive the following additional services upon payment of the appropriate fees:

Service | Schedule
a. Netpost Mailing Online (starting on a date to be specified by the Postal Service) | 981

* * * * *

Package Services Classification Schedule

510 DEFINITION

511 General

Any mailable matter may be mailed as Package Services mail except:

a. Matter required to be mailed as First-Class Mail;

b. Regular and Nonprofit Presort category mail entered as Customized Market Mail under sections 321.22 and 323.22; and

[b]c. Copies of a publication that is entered as Periodicals class mail, except copies sent by a printer to a publisher, and except copies that would have traveled at the former second-class transient rate. (The transient rate applied to individual copies of second-class mail (currently Periodicals class mail) forwarded and mailed by the public, as well as to certain sample copies mailed by publishers.)

* * * * *

Special Services Classification Schedule

910 ADDRESSING

911 ADDRESS CORRECTION SERVICE

* * * * *

911.2 Availability

911.21 Address Correction service is available to mailers of postage prepaid mail of all classes, except for mail addressed for delivery by military personnel at any military installation and Regular and Nonprofit Presort category mail entered as Customized Market Mail under sections 321.22 and 323.22. Address Correction Service is mandatory for Periodicals class mail.

* * * * *

940 ACCOUNTABILITY AND RECEIPTS

* * * * *

943 INSURANCE

* * * * *

943.2 General Insurance

* * * * *

943.22 Availability

943.221 General Insurance is available for mail sent under the following classification schedules:

a. First-Class Mail, if containing matter that may be mailed as Standard Mail or Package Services;

b. Package Services;

c. Regular and Nonprofit subclasses of Standard Mail, for Bulk Insurance only, for mail subject to residual shape surcharge, except Regular and Nonprofit Presort category mail entered as Customized Market Mail under sections 321.22 and 323.22.

* * * * *

945 RETURN RECEIPT

* * * * *

945.2 Return Receipt for Merchandise

* * * * *

945.22 Availability.

945.221 Return Receipt for Merchandise is available for merchandise sent under the following sections or classification schedules:

a. Priority Mail;

b. Standard Mail pieces subject to the residual shape surcharge, except Regular and Nonprofit Presort category mail entered as Customized Market Mail under sections 321.22 and 323.22;

c. Package Services.

* * * * *

947 CERTIFICATE OF MAILING

* * * * *

947.2 Availability

947.21 Certificate of Mailing service is available for matter sent using any class of mail, except Regular and Nonprofit Presort category mail entered as Customized Market Mail under sections 321.22 and 323.22.

* * * * *

948 DELIVERY CONFIRMATION

* * * * *

948.2 Availability

948.21 Delivery Confirmation service is available for First-Class Letters and Sealed Parcels subclass mail that is parcel-shaped, as specified by the Postal Service; Priority Mail; Standard Mail, in the Regular and Nonprofit subclasses, that is subject to the residual shape surcharge, except Regular and Nonprofit Presort category mail entered as Customized Market Mail under sections 321.22 and 323.22; and Package Services mail that is parcel-shaped, as specified by the Postal Service.

* * * * *

General Definitions, Terms and Conditions

* * * * *

6000 MAILABLE MATTER

* * * * *

6020 Minimum Size Standards

Except as provided in sections 321.22 and 323.22, [T]the following minimum size standards apply to all mailable matter:

a. All items must be at least 0.007 inch thick, and

b. All items, other than keys and identification devices, which are 0.25 inch thick or less must be

i. Rectangular in shape,

ii. At least 3.5 inches in width, and

iii. At least 5 inches in length.

* * * * *

Stanley F. Mires,
Chief Counsel, Legislative.

[FR Doc. 03-18109 Filed 7-16-03; 8:45 am]

BILLING CODE 7710-12-P